DEPARTMENT OF COMMERCE

National Oceanic and Atmospheric Administration

50 CFR Part 622

[I.D. 052101C]

Fisheries of the Caribbean, Gulf of Mexico, and South Atlantic; Shallow Water Reeffish Fishery of Puerto Rico and the U.S. Virgin Islands; Essential Fish Habitat Generic Amendment to the Fishery Management Plans of the U.S. Caribbean; Public Hearings and Scoping Meetings

AGENCY: National Marine Fisheries Service (NMFS), National Oceanic and Atmospheric Administration (NOAA), Commerce.

ACTION: Notice of public hearings and scoping meetings; request for comments.

SUMMARY: The Caribbean Fishery Management Council (Council) will hold scoping meetings to obtain input from fishers, the general public, and government agencies prior to developing a Supplemental Environmental Impact Statement (SEIS) for the Essential Fish Habitat (EFH) Generic Amendment to the Fishery Management Plans of the U.S. Caribbean (EFH Generic Amendment). The Council is also holding public hearings on Amendment 3 to the Fishery Management Plan for the Shallow Water Reeffish Fishery of Puerto Rico and the U.S. Virgin Islands (Amendment 3).

DATES: Written comments will be accepted until June 27, 2001. Hearings and meetings will be held during June. For specific dates and times of the hearings and scoping meetings see SUPPLEMENTARY INFORMATION.

ADDRESSES: Written comments should be sent to the Caribbean Fishery Management Council, 268 Muñoz Rivera Avenue, Suite 1108, San Juan, PR 00918-2577; telephone: 787-766-5926. Copies of the Scoping Document for developing the SEIS for the EFH Generic Amendment can be obtained from the Council at the same address. Hearings and meetings will be held in the United States Virgin Islands and Puerto Rico. See SUPPLEMENTARY INFORMATION for specific hearing and meeting locations.

FOR FURTHER INFORMATION CONTACT: Caribbean Fishery Management Council, 268 Muñoz Rivera Avenue, Suite 1108, San Juan, PR 00918-2577; telephone: 787-766-5926.

SUPPLEMENTARY INFORMATION: The Council published a notice of intent to prepare an SEIS for the EFH Generic Amendment (66 FR 15404, March 19, 2001) that provides further detail not repeated here. The Council will hold scoping meetings to obtain input from fishers, the general public, and Government agencies prior to developing the SEIS for the EFH Generic Amendment. The Council is seeking public input on alternatives for the designation of EFH and Habitat Areas of Particular Concern (HAPCs) for the fisheries and fishery resources under the Council’s jurisdiction, and on alternatives for minimizing, to the extent practicable, the adverse effects of fishing on EFH. The Council is also seeking public input on the environmental impacts associated with such alternative EFH and HAPC designations and with measures needed to mitigate impacts related to both fishing and non-fishing activities. Alternatives that would be considered in the SEIS include, at a minimum, no action, the preferred alternative identified in the EFH Generic Amendment, and multiple alternatives to the description and identification of EFH and HAPCs for the managed fisheries.

The Council will also be convening public hearings on the proposed measures included in Amendment 3. These measures include modifying the requirement for trap panels, establishing fishing gear permits, prohibiting the use of traps in the U.S. Caribbean Exclusive Economic Zone (EEZ), and prohibiting the use of nets in the U.S. Caribbean EEZ.

Dates, Times, and Locations for the Public Hearings and Scoping Meetings

The Council will be holding the EFH Generic Amendment scoping meetings and the Amendment 3 public hearings at the same location, with the EFH Generic Amendment scoping meeting commencing first, followed by the Amendment 3 public hearing at the following locations, times, and dates:

1. June 12, 2001, EFH Generic Amendment scoping meetings from 7 p.m. to 7:30 p.m., Amendment 3 Public Hearings from 7:31 p.m. to 10 p.m., Legislature Building, Hilltop Building, Cruz Bay, St. John, USVI;

2. June 13, 2001, EFH Generic Amendment scoping meetings from 2 p.m. to 5 p.m., Amendment 3 public hearings from 7 p.m. to 10 p.m., Windward Passage Holiday Inn, Veterans Drive, Charlotte Amalie, St. Thomas, USVI;

3. June 14, 2001, EFH Generic Amendment scoping meeting from 2 p.m. to 5 p.m., Amendment 3 public hearing from 7 p.m. to 10 p.m., Hotel on the Cay, Christiansted, St. Croix, USVI;

4. June 18, 2001, EFH Generic Amendment scoping meeting from 2 p.m. to 5 p.m., Amendment 3 public hearing from 7 p.m. to 10 p.m., “Colegio de Ingenieros,” Antolin Nin corner with Ricardo Skerret St., Urb. Roosevelt, Hato Rey, PR;

5. June 19, 2001, EFH Generic Amendment scoping meeting from 2 p.m. to 5 p.m., Amendment 3 public hearing from 7 p.m. to 10 p.m., Hotel Villa Real, Rd. 2, Km. 67.2, Santana Ward, Arecibo, PR;

6. June 20, 2001, EFH Generic Amendment scoping meeting from 2 p.m. to 5 p.m., Amendment 3 public hearing from 7 p.m. to 10 p.m., Mayaguez Holiday Inn Hotel, 2701, Rd. 2, Mayaguez, PR;

7. June 21, 2001, EFH Generic Amendment scoping meeting from 2 p.m. to 5 p.m., Amendment 3 public hearing from 7 p.m. to 10 p.m., Ponce Holiday Inn Hotel, 3315 Ponce By Pass, Ponce, PR;

8. June 25, 2001, EFH Generic Amendment scoping meeting from 7 p.m. to 7:30 p.m., Amendment 3 public hearing from 7:31 p.m. to 10 p.m., “Centro de Usos Múltiples,” Culebra, PR;

9. June 26, 2001, EFH Generic Amendment scoping meeting from 7 p.m. to 7:30 p.m., Amendment 3 public hearing from 7:31 p.m. to 10 p.m., “El Faro”, Vieques, PR; and

10. June 27, 2001, EFH Generic Amendment scoping meeting from 2 p.m. to 5 p.m., Amendment 3 public hearing from 7 p.m. to 10 p.m., “Parador La Familia”, Rd. 987, Km. 4.1, Fajardo, PR.

Special Accommodations

These meetings are physically accessible to people with disabilities. For more information or request for sign language interpretation and other auxiliary aids, please contact Mr. Miguel A. Rolón (see ADDRESSES) at least 5 days prior to the meeting date.

Dated: May 29, 2001.
Bruce Morehead,
Acting Director, Office of Sustainable Fisheries, National Marine Fisheries Service.

[FR Doc. 01-13972 Filed 6-1-01; 8:45 am]

BILLING CODE 3510-22-S